DEPARTMENT OF COMMERCE

International Trade Administration

[A-580-870]

Certain Oil Country Tubular Goods From the Republic of Korea: Preliminary Results of Antidumping Duty Administrative Review; 2018-2019

AGENCY: Enforcement and Compliance, International Trade Administration, Department of Commerce.

SUMMARY: The Department of Commerce (Commerce) preliminarily determines that certain oil country tubular goods (OCTG) from the Republic of Korea (Korea) are being sold in the United States at prices below normal value. The period of review (POR) is September 1, 2018 through August 31, 2019. Interested parties are invited to comment on these preliminary results.

DATES: Applicable January 25, 2021.

FOR FURTHER INFORMATION CONTACT: Davina Friedmann, Mark Flessner, or Frank Schmitt, AD/CVD Operations, Office VI, Enforcement and Compliance, International Trade Administration, U.S. Department of Commerce, 1401 Constitution Avenue NW, Washington, DC 20230; telephone: (202) 482-0698, (202) 482-6312, or (202) 482-4880, respectively.

SUPPLEMENTARY INFORMATION:

Background

These preliminary results are made in accordance with section 733(b) of the Tariff Act of 1930, as amended (the Act). Commerce published the notice of initiation of this administrative review on November 12, 2019.¹ Commerce selected Hyundai Steel Company (Hyundai Steel) and SeAH Steel Corporation (SeAH) as the two mandatory respondents in this review.² On April 24, 2020, Commerce tolled all deadlines in administrative reviews by 50 days.³ On June 30, 2020, Commerce extended the deadline of the preliminary results of review by 100 days, until October 29, 2020, in accordance with 751(a)(3)(A) of the Act.⁴ On July 21, 2020, Commerce tolled all deadlines in administrative reviews by an additional 60 days,⁵ thereby extending the deadline for these preliminary results until December 28, 2020. On November 25, 2020, in accordance with section 751(a)(3)(A) of the Act, Commerce extended the preliminary results of review by an additional 18 days, until January 15, 2021.⁶

¹ See Initiation of Antidumping and Countervailing Duty Administrative Reviews, 84 FR 61011 (November 12, 2019) (Initiation Notice).

² See Memorandum, “2018-2019 Administrative Review of the Antidumping Duty Order on Oil Country Tubular Goods from the Republic of Korea: Respondent Selection,” dated December 23, 2019.

³ See Memorandum, “Tolling of Deadlines for Antidumping and Countervailing Duty Administrative Reviews,” dated April 24, 2020 (First Tolling Memorandum).

⁴ See Memorandum, “Certain Oil Country Tubular Goods from the Republic of Korea, 2018-2019: Extension of Time Limit of Preliminary Results of Antidumping Duty Administrative Review,” dated June 30, 2020 (First Extension of Preliminary Review Results Memorandum).

⁵ See Memorandum, “Tolling of Deadlines for Antidumping and Countervailing Duty Administrative Reviews,” dated July 21, 2020 (Second Tolling Memorandum).

⁶ See Memorandum, “Certain Oil Country Tubular Goods from the Republic of Korea, 2018-2019: Extension of Time Limit of Preliminary Results of Antidumping Duty Administrative Review,” dated November 25, 2020 (Second Extension of Preliminary Review Results Memorandum).

For a complete description of the events that followed the initiation of this administrative review, see the Preliminary Decision Memorandum, dated concurrently with these preliminary results and hereby adopted by this notice.⁷ A list of topics included in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/. The signed and the electronic versions of the Preliminary Decision Memorandum are identical in content.

⁷ See Memorandum, “Decision Memorandum for the Preliminary Results in the 2018-2019 Administrative Review of Oil Country Tubular Goods from the Republic of Korea” dated concurrently with, and hereby adopted by, this notice (Preliminary Decision Memorandum).

Scope of the Order

The product covered by the Order ⁸ is OCTG from Korea. For a complete description of the scope of the Order, see the Preliminary Decision Memorandum.

⁸ See Certain Oil Country Tubular Goods from India, the Republic of Korea, Taiwan, the Republic of Turkey, and the Socialist Republic of Vietnam: Antidumping Duty Orders; and Certain Oil Country Tubular Goods from the Socialist Republic of Vietnam: Amended Final Determination of Sales at Less Than Fair Value, 79 FR 53691 (September 10, 2014) (Order).

Methodology

Commerce is conducting this administrative review in accordance with section 751(a)(2) of the Act. Commerce has calculated export prices in accordance with section 772(a) of the Act. Constructed export prices have been calculated in accordance with section 772(b) of the Act. Normal value (NV) is calculated in accordance with section 773 of the Act. Commerce preliminarily finds that a cost-based particular market situation (PMS) existed in Korea during the POR concerning the cost of hot-rolled coil (HRC) as a component of the cost of production for the OCTG that Hyundai Steel and SeAH produced.⁹ We quantified the impact of the particular market situation on the material cost of HRC, and derived a corresponding adjustment factor that, when applied to the cost of HRC, accounts for the distortions induced by the observed particular market situation.¹⁰ For a full description of the methodology underlying our conclusions, see the Preliminary Decision Memorandum.

⁹ For a complete discussion, see Memorandum, “2018-2019 Administrative Review of Antidumping Duty Order on Certain Oil Country Tubular Goods from the Republic of Korea: Decisions on Particular Market Situation Allegations,” dated concurrently with this Federal Register Notice (PMS Memorandum).

¹⁰ See PMS Memorandum.

Rates for Non-Examined Companies

The statute and Commerce's regulations do not address the rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero or de minimis margins, and any margins determined entirely {on the basis of facts available}.”

In this review, we have preliminarily calculated weighted-average dumping margins for SeAH that is not zero, de minimis, or determined entirely on the basis of facts available. Accordingly, Commerce preliminarily has assigned to the companies not individually examined (see Appendix II for a full list of these companies) a margin of 1.07 percent, which is the weighted average dumping margin of SeAH for these preliminary results of review.¹¹

¹¹ For more information regarding the calculation of this margin, see Memorandum, “Preliminary Results of the 2018-2019 Administrative Review of Certain Oil Country Tubular Goods from the Republic of Korea; Calculation of the Margin for Non-Examined Companies,” dated concurrently with this memorandum.

Preliminary Results of Review

Commerce preliminarily determines that, for the period September 1, 2018 through August 31, 2019, the following weighted-average dumping margins exist:

Exporter/producer | Estimated weighted- average dumping margin (percent)
Hyundai Steel Company | 0.00
SeAH Steel Corporation | 1.07
Non-examined companies ¹² | 1.07

Disclosure, Public Comment, and Opportunity To Request a Hearing

¹² See Appendix II.

We intend to disclose the calculations performed for these preliminary results of review to interested parties within five days of the date of publication of this notice in accordance with 19 CFR 351.224(b). Pursuant to 19 CFR 351.309(c), interested parties may submit case briefs no later than 30 days after the date of publication of this notice. Rebuttal briefs, the content of which is limited to issues raised in the case briefs, may be filed no later than seven days after the date for filing case briefs.¹³ Note that Commerce has temporarily modified certain of its requirements for serving documents containing business proprietary information, until further notice.¹⁴

¹³ See 19 CFR 351.309(d).

¹⁴ See 19 CFR 351.303 (for general filing requirements); see also Temporary Rule Modifying AD/CVD Service Requirements Due to COVID-19, 85 FR 17006 (March 26, 2020); and Temporary Rule Modifying AD/CVD Service Requirements Due to COVID-19; Extension of Effective Period, 85 FR 41363 (July 10, 2020).

Parties who submit case briefs or rebuttal briefs in this proceeding are encouraged to submit with each argument: (1) A statement of the issue; (2) a brief summary of the argument; and (3) a table of authorities.¹⁵ Case and rebuttal briefs should be filed using ACCESS ¹⁶ and must be served on interested parties.¹⁷ Executive summaries should be limited to five pages total, including footnotes.

¹⁵ See 19 CFR 351.309(c)(2) and (d)(2).

¹⁶ See generally 19 CFR 351.303.

¹⁷ See 19 CFR 351.303(f).

Pursuant to 19 CFR 351.310(c), interested parties who wish to request a hearing must submit a written request to the Assistant Secretary for Enforcement and Compliance, filed electronically via Commerce's electronic records system, ACCESS. An electronically filed request must be received successfully in its entirety by 5:00 p.m. Eastern Time within 30 days of the date of publication of this notice.¹⁸ Requests should contain: (1) The party's name, address and telephone number; (2) the number of participants; and (3) a list of issues parties intend to discuss. Issues raised in the hearing will be limited to those raised in the respective case and rebuttal briefs. If a request for a hearing is made, Commerce intends to hold the hearing at a time and date to be determined.¹⁹ Parties should confirm the date, time, and location of the hearing two days before the scheduled date.

¹⁸ See 19 CFR 351.310(c).

¹⁹ See 19 CFR 351.310(d).

Commerce intends to issue the final results of this administrative review, including the results of its analysis of the issues raised in any case or rebuttal briefs, no later than 120 days after the date of publication of this notice, unless extended.²⁰

²⁰ See section 751(a)(3)(A) of the Act and 19 CFR 351.213(h).

Assessment Rates

Upon completion of this administrative review, Commerce shall determine, and U.S. Customs and Border Protection (CBP) shall assess, antidumping duties on all appropriate entries. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For any individually examined respondent whose weighted-average dumping margin is not zero or de minimis (i.e., less than 0.50 percent) in the final results of this review, if the respondent reported reliable entered values, we will calculate importer-specific ad valorem assessment rates for the merchandise based on the ratio of the total amount of dumping calculated for the examined sales made to each importer and the total entered value of those same sales, in accordance with 19 CFR 351.212(b)(1). If the respondent has not reported reliable entered values, we will calculate a per-unit assessment rate for each importer by dividing the total amount of dumping calculated for the examined sales made to that importer by the total sales quantity associated with those transactions. Where an importer-specific ad valorem assessment rate is zero or de minimis in the final results of review, we will instruct CBP to liquidate the appropriate entries without regard to antidumping duties in accordance with 19 CFR 351.106(c)(2). If a respondent's weighted-average dumping margin is zero or de minimis in the final results of review, we will instruct CBP not to assess duties on any of its entries in accordance with the Final Modification for Reviews, i.e., “{w}here the weighted-average margin of dumping for the exporter is determined to be zero or de minimis, no antidumping duties will be assessed.” ²¹

²¹ See Antidumping Proceedings: Calculation of the Weighted-Average Dumping Margin and Assessment Rate in Certain Antidumping Proceedings: Final Modification, 77 FR 8101, 8102 (February 14, 2012) (Final Modification for Reviews).

For entries of subject merchandise during the POR produced by Hyundai Steel or SeAH for which the producer did not know its merchandise was destined for the United States, or for any respondent for which we have a final determination of no shipments, we will instruct CBP to liquidate unreviewed entries at the all-others rate if there is no rate for the intermediate company(ies) involved in the transaction.²²

²² See Antidumping and Countervailing Duty Proceedings: Assessment of Antidumping Duties, 68 FR 23954 (May 6, 2003).

Cash Deposit Requirements

The following cash deposit requirements will be effective upon publication of the notice of final results of this administrative review for all shipments of the subject merchandise entered, or withdrawn from warehouse, for consumption on or after the date of publication, as provided by section 751(a)(2) of the Act: (1) The cash deposit rate for the companies listed in the final results of review will be equal to the weighted-average dumping margin established in the final results of this administrative review; (2) for merchandise exported by producers or exporters not covered in this review but covered in a prior segment of the proceeding, the cash deposit rate will continue to be the company-specific rate published for the most recently completed segment of this proceeding in which they were reviewed; (3) if the exporter is not a firm covered in this review, a prior review, or the original investigation but the producer is, then the cash deposit rate will be the rate established for the most recently completed segment of this proceeding for the producer of the merchandise; (4) the cash deposit rate for all other producers or exporters will continue to be 5.24 percent, the all-others rate established in the less-than-fair-value investigation.²³ These cash deposit requirements, when imposed, shall remain in effect until further notice.

²³ See Certain Oil Country Tubular Goods from the Republic of Korea: Notice of Court Decision Not in Harmony With Final Determination, 81 FR 59603 (August 30, 2016).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

The preliminary results of this administrative review are issued and published in accordance with sections 751(a)(1) and 777(i)(1) of the Act, and 19 CFR 351.221(b)(4).

Dated: January 15, 2021.
Jeffrey I. Kessler,
Assistant Secretary for Enforcement and Compliance.

Appendix I

List of Topics Discussed in the Preliminary Decision Memorandum

I. Summary

II. Background

III. Scope of the Order

IV. Rates for Non-Examined Companies

V. Affiliation

VI. Discussion of Methodology

VII. Currency Conversion

VIII. Recommendation

Appendix II

List of Companies Not Individually Examined

1. AJU Besteel Co., Ltd.

2. Blue Sea Precision Tube Co., Ltd.

3. Bo Myung Metal Co., Ltd.

4. BUMA CE Co., Ltd.

5. Busung Steel Co., Ltd.

6. Chang Won Bending Co., Ltd.

7. Daeho P&C Co., Ltd.

8. Daou Precision Ind. Co.

9. Dongyang Steel Pipe Co., Ltd.

10. Dongbu Incheon Steel Co., Ltd.

11. Dongkuk Steel Mill Co., Ltd.

12. EEW Korea Co., Ltd.

13. Global Solutions Co., Ltd.

14. Hansol Metal Co., Ltd.

15. HiSteel Co., Ltd.

16. HPP Co., Ltd.

17. Husteel Co., Ltd.

18. Hyundai Group

19. Hyundai Corporation

20. Hyundai HYSCO

21. Hyundai RB Co., Ltd.

22. Hyundai Steel Company

23. ILJIN Steel Corporation

24. Keonwoo Metals Co., Ltd.

25. K Steel Corporation

26. KF UBIS Co., Ltd.

27. Korea Steel Co., Ltd.

28. Kukje Steel Co., Ltd.

29. KPF Co., Ltd.

30. Kumkang Kind Co., Ltd.

31. Kumsoo Connecting Co., Ltd.

32. Master Steel Corporation

33. MCK Co., Ltd.

34. MS Pipe Co., Ltd.

35. Msteel Co., Ltd.

36. Nexen Corporation

37. NEXTEEL Co., Ltd.

38. Pneumatic Plus Korea Co., Ltd.

39. POSCO International Corporation

40. PSG Co., Ltd.

41. Pusan Fitting Corporation

42. SeAH FS Co., Ltd.

43. SeAH Steel Corporation

44. Sejong Ind. Co., Ltd.

45. Seokyoung Steel & Technology Co., Ltd.

46. SIC Tube Co., Ltd.

47. ST Tubular Inc.

48. Sungkwang Bend Co., Ltd.

49. TGS Pipe Co., Ltd.

50. TJ Glovsteel Co., Ltd.

51. TSP Corporation

52. Union Pipe MFG Co., Ltd.

53. WSG Co., Ltd.

[FR Doc. 2021-01498 Filed 1-22-21; 8:45 am]

BILLING CODE 3510-DS-P